DEPARTMENT OF COMMERCE

National Oceanic and Atmospheric Administration

50 CFR Part 679

[Docket No. 030819206-4051-02; I.D. 020204A]

RIN 0648 AR42

Fisheries of the Exclusive Economic Zone Off Alaska; Provisions of the American Fisheries Act

AGENCY: National Marine Fisheries Service (NMFS), National Oceanic and Atmospheric Administration (NOAA), Commerce.

ACTION: Final rule; effectiveness of collection-of-information requirements.

SUMMARY: NMFS announces approval by the Office of Management and Budget (OMB) of collection-of-information requirements contained in the following American Fisheries Act (AFA)-related amendments: Amendment 61 to the Fishery Management Plan (FMP) for the Groundfish Fishery of the Bering Sea and Aleutian Islands (BSAI) Area, Amendment 61 to the FMP for Groundfish of the Gulf of Alaska, Amendment 13 to the FMP for BSAI King and Tanner Crab, and Amendment 8 to the FMP for the Scallop Fishery off Alaska (collectively referred to as Amendments 61/61/13/8), and issues a final rule to make effective the collections of information contained in those amendments. The intent of this final rule is to inform the public of the effective date of the collection of information requirements.

DATES: Sections 679.28(c)(3), 679.28(c)(4)(iii), 679.28(g), 679.61(b), and 679.63(c)(2) published at 67 FR 79692 (December 30, 2002) are effective on March 22, 2004.

ADDRESSES: Any comments regarding burden-hour estimates for collection-of-information requirements contained in this final rule should be sent to Lori Durall, NMFS, Alaska Region, P.O. Box 21668, Juneau, AK 99802, phone: (907)586-7247, e-mail: lori.durall@noaa.gov, and to David Rostker, OMB, e-mail: DavidlRostker@omb.eop.gov, or fax: (202)395-7285.

FOR FURTHER INFORMATION CONTACT: Patsy A. Bearden, NMFS, (907)586-7228 or e-mail at patsy.bearden@noaa.gov.

SUPPLEMENTARY INFORMATION: A final rule implementing the measures contained in Amendments 61/61/13/8 was published in the Federal Register on December 30, 2002 (67 FR 79692), and most of the measures were effective January 29, 2003. However, because OMB approval of the reporting requirements contained in these amendments had not yet been received as of the effective date of the rule, the effective date of the collection of information requirements contained in the amendments was delayed.

OMB approval for some of the collection of information requirements was received on July 14, 2003, and NMFS announced their effective date in the Federal Register on August 25, 2003 (68 FR 51146). OMB approval for the remaining reporting requirements was received on December 29, 2003. Consequently, this rule makes the following requirements effective: OMB 0648-0330, Scale and Catch Weighing Requirements. Approval of this collection included: § 679.28(c)(3) printed scale weights, § 679.28(c)(4)(iii) certified test weights, § 679.28(g) catch monitoring and control plan requirements, and § 679.63(c)(2) notification of observer of offloading schedule. OMB 0648-0393, American Fisheries Act (AFA) Vessel and Processor Permit Applications. Approval of this collection included: § 679.61(b) fishery cooperative responsibility.

A complete explanation of the requirements imposed by these regulations and the rationale for them was provided in the proposed rule for Amendment 61/61/13/8 (66 FR 65028, December 17, 2001) and the final rule for Amendment 61/61/13/8 ( 67 FR 79692, December 30, 2002).

Classification

This rule has been determined to be not significant for the purposes of Executive Order 12866.

Notwithstanding any other provision of the law, no person is required to respond to, nor shall any person be subject to a penalty for failure to comply with, a collection of information subject to the requirements of the Paperwork Reduction Act (PRA), unless that collection of information displays a currently valid OMB control number.

This rule contains collection-of-information requirements subject to the PRA that have been approved by OMB under control number 0648-0330. The estimated time per response to print scale weights is 45 minutes. A requirement to maintain certified test weights for use by NMFS when approving a scale is incorporated into the at-sea scale approval, which is estimated at 6 minutes. The estimated time per response to create an Inshore Processors Catch Monitoring and Control Plan (CMCP) is 40 hours. The requirement for the plant manager or plant liaison to notify the observer of the offloading schedule for each delivery of BSAI pollock is estimated to be 5 minutes.

This rule contains collection-of-information requirements subject to the PRA that have been approved by OMB under control number 0648-0393. The responsibility of the cooperative and individual members of the cooperative to comply with regulations at 50 CFR part 679 is included in the annual AFA inshore catcher vessel cooperative permit application, estimated at 20 hours.

The estimated response time includes the time needed for reviewing instructions, searching existing data sources, gathering and maintaining the data needed, and completing and reviewing the collection of information. Send comments regarding these reporting burden estimates or any other aspect of the collection-of-information, including suggestions for reducing the burden, to NMFS and OMB (see ADDRESSES).

Authority: 16 U.S.C. 773 et seq., 1801 et seq., and 3631 et seq.; Title II of Division C, Pub. L. 105 277; Sec. 3027, Pub. L. 106 31, 113 Stat. 57.

Dated: February 13, 2004.
John Oliver,
Deputy Assistant Administrator for Operations, National Marine Fisheries Service.

[FR Doc. 04-3752 Filed 2-19-04; 8:45 am]

BILLING CODE 3510-22-S